DEPARTMENT OF TRANSPORTATION

Federal Aviation Administration

14 CFR Part 39

[Docket No. FAA-2011-0570; Directorate Identifier 2011-NM-014-AD; Amendment 39-16822; AD 2011-20-09]

RIN 2120-AA64

Airworthiness Directives; Airbus Airplanes

AGENCY: Federal Aviation Administration (FAA), Department of Transportation (DOT).

ACTION: Final rule.

SUMMARY: We are adopting a new airworthiness directive (AD) for all Airbus Model A300 series airplanes; Model A310 series airplanes; and Model A300 B4-600, B4-600R, and F4-600R series airplanes, and Model C4-605R Variant F airplanes (collectively called A300-600 series airplanes). This AD results from mandatory continuing airworthiness information (MCAI) originated by an aviation authority of another country to identify and correct an unsafe condition on an aviation product. The MCAI describes the unsafe condition as:

* * * * *

A recent analysis conducted by the manufacturer showed a particular risk for explosive failure of the * * * hydraulic accumulator.

This condition, if not detected and corrected, might, for some aeroplane installations, lead to damage to all three hydraulic circuits, possibly resulting in loss of control of the aeroplane or could, for certain other aeroplane installations, lead to an undetected fire in the wheel bay.

* * * * *

We are issuing this AD to require actions to correct the unsafe condition on these products.

DATES: This AD becomes effective November 9, 2011.

The Director of the Federal Register approved the incorporation by reference of certain publications listed in this AD as of November 9, 2011.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Discussion

We issued a notice of proposed rulemaking (NPRM) to amend 14 CFR part 39 to include an AD that would apply to the specified products. That NPRM was published in the Federal Register on June 22, 2011 (76 FR 36387). That NPRM proposed to correct an unsafe condition for the specified products. The MCAI states:

Since 1984, the design of the hydraulic accumulator installed on all the affected Airbus types has changed. The Part Number (P/N) remained the same, but the manufacturer did not record the serial number of the part that was the first to be manufactured to the changed design specification.

The new design hydraulic accumulator is manufactured with 2 pieces unit welded, instead of 4 pieces unit with 3 welds (old design) as pictured in Appendix 1 of this [EASA] AD. The welding process of the new design hydraulic accumulator provides a higher strength shell material and more reliability.

A recent analysis conducted by the manufacturer showed a particular risk for explosive failure of the old design hydraulic accumulator.

This condition, if not detected and corrected, might, for some aeroplane installations, lead to damage to all three hydraulic circuits, possibly resulting in loss of control of the aeroplane or could, for certain other aeroplane installations, lead to an undetected fire in the wheel bay.

For the reasons explained above, this [EASA] AD requires a one time detailed visual inspection to identify the old designed accumulators installed on certain hydraulic systems, the replacement of those accumulators by new designed accumulators and, irrespective of findings, the installation of warning placards to avoid installation of old designed accumulators on the affected hydraulic systems.

You may obtain further information by examining the MCAI in the AD docket.

Comments

We gave the public the opportunity to participate in developing this AD. We received no comments on the NPRM (76 FR 36387, June 22, 2011) or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect about 184 products of U.S. registry. We also estimate that it will take about 7 work-hours per product to comply with the basic requirements of this AD. The average labor rate is $85 per work-hour. Required parts will cost about $197 per product. Where the service information lists required parts costs that are covered under warranty, we have assumed that there will be no charge for these parts. As we do not control warranty coverage for affected parties, some parties may incur costs higher than estimated here. Based on these figures, we estimate the cost of this AD to the U.S. operators to be $145,728, or $792 per product.

In addition, we estimate that any necessary follow-on actions would take about 5 work-hours and require parts costing $10,700, for a cost of $11,125 per product. We have no way of determining the number of products that may need these actions.

Authority for This Rulemaking

Title 49 of the United States Code specifies the FAA's authority to issue rules on aviation safety. Subtitle I, section 106, describes the authority of the FAA Administrator.“Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a ”significant regulatory action” under Executive Order 12866;

2. Is not a ”significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (76 FR 36387, June 22, 2011), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-20-09 Airbus: Amendment 39-16822. Docket No. FAA-2011-0570; Directorate Identifier 2011-NM-014-AD.

Effective Date

(a) This airworthiness directive (AD) becomes effective November 9, 2011.

Affected ADs

(b) None.

Applicability

(c) This AD applies to the products identified in paragraphs (c)(1), (c)(2), and (c)(3) of this AD, certificated in any category, all manufacturer serial numbers.

(1) Model A300 B2-1A, B2-1C, B2K-3C, B2-203, B4-2C, B4-103, and B4-203 airplanes.

(2) Model A310-203, -204, -221, -222, -304, -322, -324, and -325 airplanes.

(3) Model A300 B4-601, B4-603, B4-620, and B4-622 airplanes; A300 B4-605R and B4-622R airplanes; A300 F4-605R and F4-622R airplanes; and A300 C4-605R Variant F airplanes.

Subject

(d) Air Transport Association (ATA) of America Code 29: Hydraulic power.

Reason

(e) The mandatory continuing airworthiness information (MCAI) states:

* * * * *

A recent analysis conducted by the manufacturer showed a particular risk for explosive failure of the * * * hydraulic accumulator.

This condition, if not detected and corrected, might, for some aeroplane installations, lead to damage to all three hydraulic circuits, possibly resulting in loss of control of the aeroplane or could, for certain other aeroplane installations, lead to an undetected fire in the wheel bay.

* * * * *

Compliance

(f) You are responsible for having the actions required by this AD performed within the compliance times specified, unless the actions have already been done.

Inspection, Replacement, and Placard Installation

(g) Within 30 months or 6,000 flight hours after the effective date of this AD, whichever occurs first: Do a detailed inspection of each type 5 hydraulic accumulator, part number (P/N) 3059103-1, P/N 3059103-2, P/N 3059103-8, and P/N 3059103-9, to determine if an old design accumulator (i.e., pre-1984) is installed on any affected hydraulic circuit indicated in table 1 of this AD, as applicable, in accordance with the Accomplishment Instructions of the applicable Airbus mandatory service bulletin identified in table 2 of this AD.

Table 1—Applicable Hydraulic Circuits
Airbus model | Hydraulic circuit
A300 airplanes pre-modification 02447 | Blue and Green.
A300 airplanes post-modification 02447 | Blue.
A300-600 airplanes | Blue.
A310 airplanes | Green.

Table 2—Applicable Service Information
Airbus Mandatory Service Bulletin— | Revision— | Dated—
A300-29-0126 (for Model A300 airplanes) | 01 | October 12, 2010.
A300-29-6063 (for Model A300-600 airplanes) |  | August 12, 2010.
A310-29-2099 (for Model A310 airplanes) |  | August 12, 2010.

(h) If, during any detailed inspection required by paragraph (g) of this AD, an old design hydraulic accumulator (i.e., pre-1984) is found installed on any affected hydraulic circuit as indicated in table 1 of this AD, as applicable to airplane model, before further flight replace each affected old design accumulator with a new design accumulator, in accordance with the Accomplishment Instructions of the applicable Airbus mandatory service bulletin identified in table 2 of this AD.

(i) Before further flight after accomplishing the inspection required by paragraph (g) of this AD: Install a placard at the designated location of any affected hydraulic circuit indicated in table 1 of this AD, as applicable to airplane model, in accordance with the Accomplishment Instructions of the applicable Airbus mandatory service bulletin identified in table 3 of this AD.

Table 3—Other Applicable Service Information
Airbus Mandatory Service Bulletin— | Revision— | Dated—
A300-29-0127 (for Model A300 airplanes) |  | August 12, 2010.
A300-29-6064 (for Model A300-600 airplanes) |  | August 12, 2010.
A310-29-2100 (for Model A310 airplanes) |  | August 12, 2010.

FAA AD Differences

Note 1: This AD differs from the MCAI and/or service information as follows: No differences.

Other FAA AD Provisions

(j) The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to Attn: Dan Rodina, Aerospace Engineer, International Branch, ANM-116, Transport Airplane Directorate, FAA, 1601 Lind Avenue, SW., Renton, Washington 98057-3356; telephone (425) 227-2125; fax (425) 227-1149. Information may be e-mailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(k) Refer to MCAI European Aviation Safety Agency (EASA) Airworthiness Directive 2011-0006, dated January 17, 2011; and the Airbus mandatory service bulletins identified in table 4 of this AD; for related information.

Table 4—Related Service Information
Airbus Mandatory Service Bulletin— | Revision— | Dated—
A300-29-0126 | 01 | October 12, 2010.
A300-29-0127 |  | August 12, 2010.
A300-29-6063 |  | August 12, 2010.
A300-29-6064 |  | August 12, 2010.
A310-29-2099 |  | August 12, 2010.
A310-29-2100 |  | August 12, 2010.

Material Incorporated by Reference

(l) You must use the following service information to do the actions required by this AD, unless the AD specifies otherwise. The Director of the Federal Register approved the incorporation by reference (IBR) under 5 U.S.C. 552(a) and 1 CFR part 51 of the following service information on the date specified:

(1) Airbus Mandatory Service Bulletin A300-29-0126, excluding Appendices 01 and 02, Revision 01, dated October 12, 2010, approved for IBR November 9, 2011.

(2) Airbus Mandatory Service Bulletin A300-29-0127, excluding Appendix 01, dated August 12, 2010, approved for IBR November 9, 2011.

(3) Airbus Mandatory Service Bulletin A300-29-6063, dated August 12, 2010, approved for IBR November 9, 2011.

(4) Airbus Mandatory Service Bulletin A300-29-6064, dated August 12, 2010, approved for IBR November 9, 2011.

(5) Airbus Mandatory Service Bulletin A310-29-2099, excluding Appendix 01, dated August 12, 2010, approved for IBR November 9, 2011.

(6) Airbus Mandatory Service Bulletin A310-29-2100, dated August 12, 2010, approved for IBR November 9, 2011.

(7) For service information identified in this AD, contact Airbus SAS—EAW (Airworthiness Office), 1 Rond Point Maurice Bellonte, 31707 Blagnac Cedex, France; telephone +33 5 61 93 36 96; fax +33 5 61 93 44 51; e-mail: account.airworth-eas@airbus.com; Internet http://www.airbus.com.

(8) You may review copies of the service information at the FAA, Transport Airplane Directorate, 1601 Lind Avenue, SW., Renton, Washington. For information on the availability of this material at the FAA, call 425-227-1221.

(9) You may also review copies of the service information that is incorporated by reference at the National Archives and Records Administration (NARA). For information on the availability of this material at NARA, call 202-741-6030, or go to: http://www.archives.gov/federal_register/code_of_federal_regulations/ibr_locations.html.

Issued in Renton, Washington, on September 22, 2011.
Ali Bahrami,
Manager, Transport Airplane Directorate, Aircraft Certification Service.

[FR Doc. 2011-25308 Filed 10-4-11; 8:45 am]

BILLING CODE 4910-13-P